DEPARTMENT OF HOUSING AND URBAN DEVELOPMENT

[Docket No. FR-5750-N-15]

Federal Property Suitable as Facilities To Assist the Homeless

AGENCY: Office of the Assistant Secretary for Community Planning and Development, HUD.

ACTION: Notice.

SUMMARY: This Notice identifies unutilized, underutilized, excess, and surplus Federal property reviewed by HUD for suitability for use to assist the homeless.

FOR FURTHER INFORMATION CONTACT: Juanita Perry, Department of Housing and Urban Development, 451 Seventh Street SW., Room 7266, Washington, DC 20410; telephone (202) 402-3970; TTY number for the hearing- and speech-impaired (202) 708-2565 (these telephone numbers are not toll-free), or call the toll-free Title V information line at 800-927-7588.

SUPPLEMENTARY INFORMATION: In accordance with 24 CFR part 581 and section 501 of the Stewart B. McKinney Homeless Assistance Act (42 U.S.C. 11411), as amended, HUD is publishing this Notice to identify Federal buildings and other real property that HUD has reviewed for suitability for use to assist the homeless. The properties were reviewed using information provided to HUD by Federal landholding agencies regarding unutilized and underutilized buildings and real property controlled by such agencies or by GSA regarding its inventory of excess or surplus Federal property. This Notice is also published in order to comply with the December 12, 1988 Court Order in National Coalition for the Homeless v. Veterans Administration, No. 88-2503-OG (D.D.C.).

Properties reviewed are listed in this Notice according to the following categories: Suitable/available, suitable/unavailable, and suitable/to be excess, and unsuitable. The properties listed in the three suitable categories have been reviewed by the landholding agencies, and each agency has transmitted to HUD: (1) Its intention to make the property available for use to assist the homeless, (2) its intention to declare the property excess to the agency's needs, or (3) a statement of the reasons that the property cannot be declared excess or made available for use as facilities to assist the homeless.

Properties listed as suitable/available will be available exclusively for homeless use for a period of 60 days from the date of this Notice. Where property is described as for “off-site use only” recipients of the property will be required to relocate the building to their own site at their own expense. Homeless assistance providers interested in any such property should send a written expression of interest to HHS, addressed to Theresa Ritta, Ms. Theresa M. Ritta, Chief Real Property Branch, the Department of Health and Human Services, Room 5B-17, Parklawn Building, 5600 Fishers Lane, Rockville, MD 20857, (301)-443-2265 (This is not a toll-free number.) HHS will mail to the interested provider an application packet, which will include instructions for completing the application. In order to maximize the opportunity to utilize a suitable property, providers should submit their written expressions of interest as soon as possible. For complete details concerning the processing of applications, the reader is encouraged to refer to the interim rule governing this program, 24 CFR part 581.

For properties listed as suitable/to be excess, that property may, if subsequently accepted as excess by GSA, be made available for use by the homeless in accordance with applicable law, subject to screening for other Federal use. At the appropriate time, HUD will publish the property in a Notice showing it as either suitable/available or suitable/unavailable.

For properties listed as suitable/unavailable, the landholding agency has decided that the property cannot be declared excess or made available for use to assist the homeless, and the property will not be available.

Properties listed as unsuitable will not be made available for any other purpose for 20 days from the date of this Notice. Homeless assistance providers interested in a review by HUD of the determination of unsuitability should call the toll free information line at 1-800-927-7588 for detailed instructions or write a letter to Ann Marie Oliva at the address listed at the beginning of this Notice. Included in the request for review should be the property address (including zip code), the date of publication in the Federal Register, the landholding agency, and the property number.

For more information regarding particular properties identified in this Notice (i.e., acreage, floor plan, existing sanitary facilities, exact street address), providers should contact the appropriate landholding agencies at the following addresses: Agriculture: Ms. Debra Kerr, Department of Agriculture, Reporters Building, 300 7th Street SW., Room 300, Washington, DC 20024, (202)-720-8873; Air Force: Ms. Connie Lotfi, Air Force Real Property Agency, 143 Billy Mitchell Blvd., San Antonio, TX 78226, (210) 925-3047; Army: Ms. Veronica Rines, Office of the Assistant Chief of Staff for Installation Management, Department of Army, Room 5A128, 600 Army Pentagon, Washington, DC 20310, (571)-256-8145; COE: Mr. Scott Whiteford, Army Corps of Engineers, Real Estate, CEMP-CR, 441 G Street NW., Washington, DC 20314; (202) 761-5542; Energy: Mr. David Steinau, Department of Energy, Office of Property Management, 1000 Independence Ave. SW., Washington, DC 20585 (202) 287-1503; GSA: Mr. Flavio Peres, General Services Administration, Office of Real Property Utilization and Disposal, 1800 F Street NW., Room 7040 Washington, DC 20405, (202) 501-0084; Interior: Mr. Michael Wright, Acquisition & Property Management, Department of the Interior, 3960 N. 56th Ave. #104, Hollywood, FL 33021; (443) 223-4639; (These are not toll-free numbers).

Dated: April 3, 2014.
Mark Johnston,
Deputy Assistant Secretary for Special Needs.

TITLE V, FEDERAL SURPLUS PROPERTY PROGRAM, FEDERAL REGISTER REPORT FOR 04/11/2014

Suitable/Available Properties

Building

Arkansas

Waterborne Restroom

93 Park Road

Bigelow AR 72016

Landholding Agency: COE

Property Number: 31201410011

Status: Excess

Comments: Off-site removal only; 537 sq. ft.; removal may be difficult due to structure type; contact COE for more info.

California

Los Pinetos Camp Sentry #2819

07627/40749/C9

Los Angeles CA

Landholding Agency: Agriculture

Property Number: 15201410028

Status: Excess

Comments: 102 sq. ft.; abandoned; 57+ yrs.-old; asbestos & lead based paint; contact Agriculture for more info.

Los Pinetos Camp Sentry #1611

07627/40749/C9

Los Angeles CA

Landholding Agency: Agriculture

Property Number: 15201410030

Status: Excess

Comments: 69 sq. ft.; abandoned; 57+ yrs.-old; asbestos & lead based paint; contact Agriculture for more info.

Illinois

Portakamp 77538—D0

Fermi National Accelerator Laboratory

Batavia IL 60510

Landholding Agency: Energy

Property Number: 41201410012

Status: Excess

Comments: off-site removal only; relocation may be difficult due to the structural type; 4,140 sq. ft.; office secured area; contact Energy for more information.

RD T and M Shop

Fermi National Accelerator Laboratory

Batavia IL 60510

Landholding Agency: Energy

Property Number: 41201410013

Status: Excess

Comments: off-site removal only; 576 sq. ft.; storage; 31+years old; 6+ months vacant; secured area; contact Energy for more information.

Indiana

Building 41

Hulman Field IAP

713 Peterchedd Street

Terre Haute IN 47803-5060

Landholding Agency: Air Force

Property Number: 18201410026

Status: Unutilized

Comments: 2,038 sq. ft.; entry control point; 2+ month vacant; contact Air Force for more information.

Portakamp 77538—D0

Fermi National Accelerator Laboratory

Batavia IN 60510

Landholding Agency: Energy

Property Number: 41201410011

Status: Excess

Comments: off-site removal only; relocation may be difficult due to the structure type; 4,140 Sq. Ft.; office ; secured area; contact Energy for more information.

Kansas

Building 7610

Fort Riley

Fort Riley KS 66442

Landholding Agency: Army

Property Number: 21201410049

Status: Excess

Comments: off-site removal only; may not be feasible to relocate due to sq. ft./type of structure; 41,892 sq. Ft. barracks contact Army for more information.

Maryland

Building 048A—Screen Building

1200B0048A/08940 RPUID#03.52136

10300 Baltimore Avenue

Beltsville MD 20705

Landholding Agency: Agriculture

Property Number: 15201410018

Status: Excess

Comments: 616 sq. ft.; storage; 49+ years old; damage to roof and exterior walls; secured area; contact Agriculture for more information.

Building 048—Market Quality

Lab “A”

1200B0048/08940 RPUID#03.52073

Beltsville MD 20705

Landholding Agency: Agriculture

Property Number: 15201410019

Status: Excess

Comments: 1,600 sq. ft.; screen house; 53+ years old; major renovations; restricted hours to access; contact Agriculture for more information.

Building 1390, Storage #1390

1203B01390/08940 RPUID #03.52696

10300 Baltimore Avenue

Beltsville MD 20705

Landholding Agency: Agriculture

Property Number: 15201410021

Status: Excess

Comments: 436 sq. ft., storage; 42+ years old; restricted hours to access; contact Agriculture for more information.

Building 1054, Storage #1054

1203B01054/08940 RPUID#03.52494

10300 Baltimore Avenue

Beltsville MD 20705

Landholding Agency: Agriculture

Property Number: 15201410022

Status: Excess

Comments: 70 sq. ft.; 55+ years old; secured area; contact Agriculture for more information.

Building 1092

1203B01092/08940

RUID#03.52514

Beltsville MD 20705

Landholding Agency: Agriculture

Property Number: 15201410023

Status: Excess

Comments: 28 sq. ft.; 39+ yrs.-old; needs roof; secured area; contact Agriculture for more info.

Building 255A—Brooder House

1203B0255A/08940 RPUID#03.52802

10300 Baltimore Avenue

Beltsville MD 20705

Landholding Agency: Agriculture

Property Number: 15201410025

Status: Excess

Comments: 3,800 sq. ft.; poultry; 51+ years old; major renovations; contact Agriculture for more information.

Building 1205—Field Pen

1203B01205/08940

RPUID#03.52603

Beltsville MD 20705

Landholding Agency: Agriculture

Property Number: 15201410026

Status: Excess

Comments: 436 sq. ft.; 41+ yrs.-old; fair conditions; needs new roof/HVAV/utility systems; secured area; contact Agriculture for more info.

Building 1288—Poultry Building

1203B01288/08940

RPUID#03.52639

Beltsville MD 20705

Landholding Agency: Agriculture

Property Number: 15201410027

Status: Excess

Comments: 504 sq. ft.; storage; 45+ yrs.-old; contact Agriculture for more info.

Building 049—Seed Quality

1200B0049/08940 RPUID

#03.52074

Beltsville MD 20705

Landholding Agency: Agriculture

Property Number: 15201410034

Status: Excess

Comments: 1,564 sq. ft.; storage; 52+ yrs.-old; major renovations required; contact Agriculture for more information.

Montana

Stemple Pass Cabin Infra #1034

Helena National Forest

Lincoln Ranger Dist. MT

Landholding Agency: Agriculture

Property Number: 15201410032

Status: Excess

Directions: T13N R07W Sec 8

Comments: off-site removal only; 200 sq. ft.; residential; age: built 1937; structure is rotten/unsound; asbestos & leads base paint; contact Agriculture for more info.

0296004600B

CANFER Townsend Shop

Townsend MT 59644

Landholding Agency: Interior

Property Number: 61201410008

Status: Unutilized

Comments: off-site removal only; no future agency need; 1,200 sq. ft.; 200+ months vacant; storage; contact Interior for more info.

Oregon

Andrew S. Wiley Park

Willamette Valley Projects

Foster Lake OR

Landholding Agency: COE

Property Number: 31201410010

Status: Underutilized

Comments: off-site removal only; no future agency need; 462 sq. ft.; bathroom; need repairs; contact COC for more information.

The Dallas Lock and Dam

Seaufert/Spearfish/Celilo Parks

Portland OR

Landholding Agency: COE

Property Number: 31201410013

Status: Unutilized

Directions: Only 1 building is inside a secure area, others are outside, location is The Dallas, Oregon

Comments: off-site removal only; no future agency need; secured area; sq. ft. varies; contact COE for more information on a specific property & removal/accessibility requirements.

Dexter Reservoir

Lakeside/Shortridge/Wilson Creek

Cottage Grove OR

Landholding Agency: COE

Property Number: 31201410014

Status: Underutilized

Comments: off-site removal only; no future agency need; contact COE for more information on a specific a property & removal requirements.

South Dakota

Pactola CG Toilet #5

1086

20 Miles Northwest of Rapid City SD

Rapid City SD 57702

Landholding Agency: Agriculture

Property Number: 15201410016

Status: Excess

Comments: off-site removal only; 55 sq. ft.; toilet; poor conditions; contamination; secured area; contact Agriculture for more information.

Pactola CG Toilet #6

1087

20 Miles Northwest of Rapid City SD

Rapid City SD 57702

Landholding Agency: Agriculture

Property Number: 15201410017

Status: Excess

Comments: off-site removal only; 55 sq. ft.; toilet; poor conditions; contamination area; contact Agriculture for more information.

Washington

Randle Access Bankhouse East

RPUID 1976.004731 07659-00

418 Silverbrook Road

Randle WA 98377

Landholding Agency: Agriculture

Property Number: 15201410029

Status: Excess

Comments: 744 sq. ft.; bunkhouse; 5+ months vacant; poor to fair conditions; contact Agriculture for more information.

South Carolina

Former FAA Outer Marker

Facility—Greer

Brookfield Parkway

Greer SC 29651

Landholding Agency: GSA

Property Number: 54201410011

Status: Excess

GSA Number: 1-U-SC-0631

Comments: 0.99 acres; contact GSA for more information.

Tennessee

1.80 Acres

Riverport Road

Memphis TN 38109

Landholding Agency: COE

Property Number: 31201410008

Status: Excess

Comments: legal constraints; contact COE for more information regarding property.

Former FAA Outer Marker

Facility—Nashville

W End of Kinhawk Drive

Nashville TN 37211

Landholding Agency: GSA

Property Number: 54201410012

Status: Excess

GSA Number: 1-U-TN-0672

Comments: 12.20 acres; contact GSA for more information.

Unsuitable Properties

Building

Alaska

Building 3005 and 3008

Fort Wainwright

Fort Wainwright AK 99703

Landholding Agency: Army

Property Number: 21201410046

Status: Unutilized

Directions: 3005, 3008

Comments: public access denied and no alternative method to gain access without compromising nat'l security.

Reasons: Secured Area

Arkansas

House; ID No. NIMPOD-44963

Structure No. NIMHQ01

Nimrod-Blue Mountain Project Office

Plainview AR 72857

Landholding Agency: COE

Property Number: 31201410012

Status: Unutilized

Comments: public access denied and no alternative method to gain access w/out compromising national security.

Reasons: Secured Area

Florida

2 Buildings

MacDill AFB

MacDill FL 33621

Landholding Agency: Air Force

Property Number: 18201410028

Status: Underutilized

Comments: public access denied & no alternative method to gain access w/out compromising nat'l security.

Reasons: Secured Area

Maryland

Building 044, Radioactive Soil

Building

1200B00044/08940 RPUID#03.52070

Beltsville MD 20705

Landholding Agency: Agriculture

Property Number: 15201410024

Status: Excess

Comments: documented deficiencies; structure has collapsed; interior has eroded away causing the wood floor to break away and falling to lower level.

Reasons: Extensive deterioration

Michigan

4 Buildings

Fort Custer Training Center

Augusta MI 49012

Landholding Agency: Army

Property Number: 21201410047

Status: Unutilized

Directions: 02441, 02509, 02536, 02525

Comments: public access denied; no alternative method to gain access w/out compromising nat'l security.

Reasons: Secured Area

Missouri

U.S. Army Corps of Engineers,

St. Louis District

Mark Twain Lake Project Office

Monroe City MO 63456

Landholding Agency: COE

Property Number: 31201410009

Status: Unutilized

Comments: public access denied and no alternative method to gain access without compromising national security.

Reasons: Secured Area

Alaska

47.09 Acres

JBER—R

JBER AK 99505

Landholding Agency: Air Force

Property Number: 18201410029

Status: Underutilized

Comments: public access denied and no alternative method to gain access without compromising national security.

Reasons: Secured Area

[FR Doc. 2014-07967 Filed 4-10-14; 8:45 am]

BILLING CODE 4210-67-P